DEPARTMENT OF STATE

[Public Notice 10936]

Additional Designations Pursuant of Executive Order 13382

ACTION: Designation of three Iranian entities pursuant to Executive Order 13382.

SUMMARY: Pursuant to the authority in section 1(ii) of Executive Order 13382, “Blocking Property of Weapons of Mass Destruction Proliferators and Their Supporter”, the State Department, in consultation with the Secretary of Treasury and the Attorney General, has determined that the Iran Space Agency, The Iran Space and Research Center, and the Astronautics Research Institute engaged, or attempted to engage, in activities or transactions that have materially contributed to, or pose a risk of materially contributing to, the proliferation of weapons of mass destruction or their means of delivery (including missiles capable of delivering such weapons), including any efforts to manufacture, acquire, possess, develop, transport, transfer or use such items, by any person or foreign country of proliferation concern.

DATES: The designation by the Under Secretary of State for Arms Control and International Security of the entity identified in this notice pursuant of Executive Order 13382 is effective on September 3, 2019.

FOR FURTHER INFORMATION CONTACT: Rachael Jagielski, Office of Counterproliferation Initiatives, Bureau of International Security and Nonproliferation, Department of State, Washington, DC 20520, tel.: 202-647-5193.

SUPPLEMENTARY INFORMATION: On June 28, 2005, the President, invoking the authority, inter alia, of the International Emergency Economic Powers Act (50 U.S.C. 1701-1706) (“IEEPA”), issued Executive Order 13382 (70 CFR 38567, July 1, 2005) (the “Order”), effective at 12:01 a.m. eastern daylight time on June 30, 2005. In the Order the President took additional steps with respect to the national emergency described and declared in Executive Order 12938 of November 14, 1994, regarding the proliferation of weapons of mass destruction and the means of delivering them.

Section 1 of the Order blocks, with certain exceptions, all property and interests in property that are in the United States, or that hereafter come within the United States or that are or hereafter come within the possession or control of United States persons, of: (1) The persons listed in the Annex of the Order; (2) any foreign person determined by the Secretary of State in consultation with the Secretary of the Treasury, the Attorney General, and other relevant agencies, to have engaged, or attempted to engage, in activities or transactions that have materially contributed to, or pose a risk of materially contributing to, the proliferation of weapons of mass destruction or their means of delivery, including any efforts to manufacture, acquire, possess, develop, transport, transfer, or use such items, by any person or foreign country of proliferation concern; (3) any person determined by the Secretary of the Treasury, in consultation with the Secretary of State, the Attorney General, and other relevant agencies, to have provided, or attempted to provide, financial, material, technological or other support for, or goods or services in support of, any activity or transaction described in clause (2) above or any person whose property interests in property are blocked pursuant to the Order; and (4) any person determined by the Secretary of the Treasury, in consultation with the Secretary of State, the Attorney General, and other relevant agencies, to be owned or controlled by, or acting or purporting to act for or on behalf of, directly or indirectly, any person whose property and interests in property are blocked pursuant to the Order.

Information on the designee is as follows:

• The Iran Space Agency.

• Location: No. 57/2 Saie St., Vali E Asr St., Tehran Iran.

• The Iran Space Research Center.

• Location: Iran.

• Astronautics Research Institute (aka Aerospace Research Institute, aka Astronautics Systems Research Center).

• Location: P.O. Box 15875-3885, Tehran, Iran.

○ Alternative Location: 15th St., Mahestan St., Iran Zamin St., Shahrak Ghods, Tehran, 1465774111, Iran.

○ Alternative Location: Aerospace Rd., Mahestan Rd., Iran Zamin Rd., P.O. Box 14665-834, Tehran, Iran.

○ Alternative Location: Shahrak-E-Ghods, Iran Zamin St., Mahestan St., 15 Metri St.

Gonzalo O. Suarez,
Acting Deputy Assistant Secretary, International Security and Non-Proliferation, Department of State.

[FR Doc. 2019-25995 Filed 11-29-19; 8:45 am]

BILLING CODE 4710-27-P